DEPARTMENT OF ENERGY

Federal Energy Regulatory Commission

Combined Notice of Filings #1

Take notice that the Commission received the following electric rate filings:

Docket Numbers: ER10-2633-024; ER10-2570-024; ER10-2717-024; ER10-3140-023; ER13-55-014.

Applicants: Birchwood Power Partners, L.P., Shady Hills Power Company, L.L.C., EFS Parlin Holdings, LLC, Inland Empire Energy Center, LLC, Homer City Generation, L.P.

Description: Notice of Non-Material Change in Status of the GE Companies, et al.

Filed Date: 4/21/16.

Accession Number: 20160421-5167.

Comments Due: 5 p.m. ET 5/12/16.

Docket Numbers: ER10-3117-006; ER10-3115-004; ER13-445-007; ER14-2823-005; ER11-4060-007; ER11-4061-007; ER15-1170-003; ER15-1171-003; ER15-1172-003; ER15-1173-003; ER10-3300-011.

Applicants: Lea Power Partners, LLC, Waterside Power LLC, Badger Creek Limited, Double C Generation Limited Partnership, High Sierra Limited, Kern Front Limited, Bear Mountain Limited, Chalk Cliff Limited, Live Oak Limited, McKittrick Limited, La Paloma Generating Company, LLC.

Description: Notice of Change in Status Lea Power Partners, LLC, et. al.

Filed Date: 4/21/16.

Accession Number: 20160421-5187.

Comments Due: 5 p.m. ET 5/12/16.

Docket Numbers: ER16-1153-001.

Applicants: Breadbasket LLC.

Description: Tariff Amendment: Amended MBR Filing to be effective 5/12/2016.

Filed Date: 4/21/16.

Accession Number: 20160421-5154.

Comments Due: 5 p.m. ET 5/12/16.

Docket Numbers: ER16-1398-001.

Applicants: Provision Power & Gas, LLC.

Description: Tariff Amendment: Market-Based Rates Tariff to be effective 5/1/2016.

Filed Date: 4/21/16.

Accession Number: 20160421-5152.

Comments Due: 5 p.m. ET 5/12/16.

Docket Numbers: ER16-1483-000.

Applicants: California Independent System Operator Corporation.

Description: § 205(d) Rate Filing: 2016-04-21 Frequency Response Tariff Amendment to be effective 6/21/2016.

Filed Date: 4/21/16.

Accession Number: 20160421-5157.

Comments Due: 5 p.m. ET 5/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2016.
Nathaniel J. Davis, Sr.,
Deputy Secretary.

[FR Doc. 2016-10021 Filed 4-28-16; 8:45 am]

BILLING CODE 6717-01-P